DEPARTMENT OF LABOR

Employment and Training Administration

[SGA/DFA-PY 06-04]

Solicitation for Grant Applications (SGA); Migrants and Seasonal Farmworkers Program SGA—National Farmworker Jobs Program Addendum

AGENCY: Employment and Training Administration (ETA), Labor.

ACTION: Notice: Amendment to SGA/DFA-PY-06-04.

SUMMARY: The Employment and Training Administration published a document in the Federal Register on April 20, 2007, announcing the availability of funds for the operation of National Farmworkers Jobs Program (NFJP), under section 167 of the Workforce Investment Act of 1998. This notice is an addendum to the SGA and it adds Section VIII, entitled “Other Information.”

FOR FURTHER INFORMATION CONTACT: James Stockton, Grant Officer, Division of Federal Assistance, (202) 693-3335.

Addendum

VIII. Other Information

OMB Information Collection No.: 1205-0458.

Expires: September 30, 2009.

According to the Paperwork Reduction Act of 1995, no persons are required to respond to a collection of information unless such collection displays a valid OMB control number. Public reporting burden for this collection of information is estimated to average 20 hours per response, including time for reviewing instructions, searching existing data sources, gathering and maintaining the data needed, and completing and reviewing the collection of information. Send comments regarding the burden estimated or any other aspect of this collection of information, including suggestions for reducing this burden, to the U.S. Department of Labor, the OMB Desk Officer for ETA, Office of Management and Budget, Room 10235, Washington, DC 20503. PLEASE DO NOT RETURN YOUR COMPLETED APPLICATION TO THE OMB. SEND IT TO THE SPONSORING AGENCY AS SPECIFIED IN THIS SOLICITATION.

This information is being collected for the purpose of awarding a grant. The information collected through this “Solicitation for Grant Applications” will be used by the Department of Labor to ensure that grants are awarded to the applicant best suited to perform the functions of the grant. Submission of this information is required in order for the applicant to be considered for award of this grant. Unless otherwise specifically noted in this announcement, information submitted in the respondent's application is not considered to be confidential.

Signed at Washington, DC this 7th day of May, 2007.
James W. Stockton,
Grant Officer, Employment and Training Administration.

[FR Doc. E7-9004 Filed 5-9-07; 8:45 am]

BILLING CODE 4510-FN-P